DEPARTMENT OF HEALTH AND HUMAN SERVICES

Health Resources and Services Administration

Notice of Availability of Draft Policy Documents for Comment

AGENCY: Health Resources and Services Administration (HRSA), HHS.

ACTION: This is a Notice of Availability and request for comments on a draft Agency Guidance (“Policy Information Notices” (PINs)) to convey and clarify statutory and regulatory governance requirements for federally-funded health centers and Federally Qualified Health Center (FQHC) Look-Alikes. The PIN, “Health Center Governance Requirements and Expectations” is available on the Internet at http://bphc.hrsa.gov/draftsforcomment/governance/draftgovernancepin.htm.

DATES: Comments must be received by October 26, 2009.

ADDRESSES: Comments should be submitted to <OPPDGeneral@hrsa.gov> by close of business October 26, 2009.

SUMMARY: HRSA believes that community input is valuable to the development of policies and policy documents related to the implementation of HRSA programs, including the Health Center Program. Therefore, we are requesting comments on the PIN referenced above. Comments will be reviewed and analyzed, and a summary and general response will be published as soon as possible after the deadline for receipt of comments.

Background: HRSA administers the Health Center Program, which supports more than 7,500 health care delivery sites, including community health centers, migrant health centers, health care for the homeless centers, and public housing primary care centers. Health centers serve medically underserved communities, delivering preventive and primary care services to patients regardless of their ability to pay. The purpose of the recently published draft PIN is (a) To convey and clarify HRSA's policy regarding Health Center Program statutory and regulatory governance requirements for all Health Center Program grantees (e.g., health centers funded under section 330(e), (g), (h) and (i) of the Public Health Service (PHS) Act, as amended) and FQHC Look-Alikes (per section 1905(l)(2)(B) and section 1861(aa)(4) of the Social Security Act.); (b) provide clarification regarding board requirements for public centers under co-applicant arrangements, including public centers funded or designated solely under sections 330(g), 330(h) and/or 330(i) of the PHS Act, as amended to serve special populations; and (c) outline the eligibility and qualifying expectations for HRSA approval of a governance waiver for the fifty-one percent consumer/patient majority governance requirement for eligible section 330 grantees and FQHC Look-Alikes. The PIN eliminates the monthly meeting requirement from waiver consideration.

FOR FURTHER INFORMATION CONTACT: For questions regarding this notice, please contact the Office of Policy and Program Development, Bureau of Primary Health Care, HRSA, at 301-594-4300.

Dated: September 11, 2009.
Mary K. Wakefield,
Administrator.

[FR Doc. E9-22444 Filed 9-17-09; 8:45 am]

BILLING CODE 4165-15-P